DEPARTMENT OF COMMERCE

National Oceanic and Atmospheric Administration

RIN 0648-XD856

Marine Mammals; File No. 18902

AGENCY: National Marine Fisheries Service (NMFS), National Oceanic and Atmospheric Administration (NOAA), Commerce.

ACTION: Notice; issuance of permit.

SUMMARY: Notice is hereby given that a permit has been issued to Colleen Reichmuth, Ph.D., Long Marine Laboratory, University of California at Santa Cruz, 100 Shaffer Road, Santa Cruz, CA 95060, to conduct research on pinnipeds in captivity.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Sloan, (301) 427-8401.

SUPPLEMENTARY INFORMATION: On August 31, 2015, notice was published in the Federal Register (80 FR 52452) that a request for a permit to conduct research on pinniped species in captivity had been submitted by the above-named applicant. The requested permit has been issued under the authority of the Marine Mammal Protection Act of 1972, as amended (16 U.S.C. 1361 et seq.), the regulations governing the taking and importing of marine mammals (50 CFR part 216).

Dr. Reichmuth is authorized to conduct comparative psychological and physiological studies with captive California sea lions (Zalophus californianus), harbor seals (Phoca vitulina), spotted seals (Phoca largha), ringed seals (Pusa hispida), and bearded seals (Erignathus barbatus) at Long Marine Laboratory (Santa Cruz, CA) and the Alaska SeaLife Center (Seward, AK). Up to four individuals per species may be studied at both facilities combined over the duration of the permit. The permit expires on October 15, 2020.

In compliance with the National Environmental Policy Act of 1969 (42 U.S.C. 4321 et seq.), a final determination has been made that the activity proposed is categorically excluded from the requirement to prepare an environmental assessment or environmental impact statement.

Dated: January 6, 2016.
Julia Harrison,
Chief, Permits and Conservation Division, Office of Protected Resources, National Marine Fisheries Service.

[FR Doc. 2016-00821 Filed 1-15-16; 8:45 am]

BILLING CODE 3510-22-P